DEPARTMENT OF COMMERCE

Foreign-Trade Zones Board

[Docket 3-2000]

Foreign-Trade Zone 148, Knoxville, TN; Application for Subzone Status, Matsushita Electronic Components Corporation of America Plant (Capacitors, Automotive Audio Speakers)

An application has been submitted to the Foreign-Trade Zones Board (the Board) by the Industrial Development Board of Blount County, grantee of FTZ 148, requesting special-purpose subzone status for the electrolytic capacitor and automotive audio speaker manufacturing plant of Matsushita Electronic Components Corporation of America (ACOM) (a subsidiary of Matsushita Electric Industrial Co., Ltd., of Japan), located in Knoxville, Tennessee. The application was submitted pursuant to the provisions of the Foreign-Trade Zones Act, as amended (19 U.S.C. 81a-81u), and the regulations of the Board (15 CFR Part 400). It was formally filed on February 10, 2000.

The ACOM plant (40 acres/370,000 sq.ft.) is located within the Forks of the River Park at 5105 South National Drive, Knoxville, Tennessee. The facility is used to produce aluminum electrolytic capacitors (HTSUS# 8532.22.0020-85), aluminum etched capacitor foil (7607.19.1000), and automotive audio speakers (8518.29.8000), for export and the domestic market. The production process involves design, assembly, testing, and warehousing. Components purchased from abroad (representing 10 to 100% of overall material value) include: adhesives (epoxide, phenolic), cone paper, cushions, dust caps, flexible wire, eyelets, gaskets, grille, magnets, plates, fasteners, nets, sub cones, supporters, dampers, terminals, tweeters, voice coils, cord assemblies, aluminum etched foil, ammonium adipate, electrolyte, aluminum cases and washers, terminal boards, vent plugs, vinyl sleeves, insulation boards, wax, adhesive tape, positive/negative leads, and separator paper (duty rate range: free—6.5%).

FTZ procedures would exempt ACOM from Customs duty payments on the foreign components used in export production. On its domestic sales, the company would be able to choose the duty rate that applies to finished aluminum electrolytic capacitors (duty free), aluminum etched capacitor foil (5.3%), and automotive audio speakers (4.9%) for the foreign inputs noted above. On ACOM's automotive original equipment sales, the motor vehicle duty rate (2.5%) would apply to the finished automotive audio speakers that are shipped in-bond to U.S. motor vehicle assembly plants with subzone status. The application indicates that subzone status would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is April 17, 2000. Rebuttal comments in response to material submitted during the foregoing period may be submitted during the subsequent 15-day period May 2, 2000.

A copy of the application and the accompanying exhibits will be available for public inspection at each of the following locations:

Office of the Port Director, U.S. Customs Service-Knoxville, 3286 Northpark Blvd., Alcoa, TN 37701

Office of the Executive Secretary, Foreign-Trade Zones Board, U.S. Department of Commerce, Room 4008, 14th Street & Pennsylvania Avenue, NW, Washington, DC 20230-0002

Dated: February 10, 2000.
Dennis Puccinelli,
Acting Executive Secretary.

[FR Doc. 00-3847 Filed 2-16-00; 8:45 am]

BILLING CODE 3510-DS-P